SMALL BUSINESS ADMINISTRATION

[Disaster Declaration # 10131]

Maine Disaster # ME-00002 Declaration of Economic Injury

AGENCY: U.S. Small Business Administration.

ACTION: Amendment 1.

SUMMARY: This is an amendment of an Economic Injury Disaster Loan (EIDL) declaration for the State of Maine, dated 01/06/2006.

Incident: Outbreak of red tide in the waters off Maine.

Incident Period: May 24, 2005 and continuing.

DATES: Effective Date: January 6, 2006.

EIDL Loan Application Deadline Date: March 23, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, Suite 6050, Washington, DC 20416

SUPPLEMENTARY INFORMATION: The notice of an Economic Injury declaration for the State of Maine dated June 23, 2005, is hereby amended to include the following areas as adversely affected by the disaster.

Primary County: Piscataquis.

All other counties contiguous to the above named primary county have previously been declared.

All other information in the original declaration remains unchanged.

(Catalog of Federal Domestic Assistance Number 59002)

Dated: January 6, 2006.
Hector V. Barreto,
Administrator.

[FR Doc. E6-441 Filed 1-17-06; 8:45 am]

BILLING CODE 8025-01-P